DEPARTMENT OF THE INTERIOR

National Park Service

General Management Plan, Final Environmental Impact Statement, Saguaro National Park, AZ

AGENCY: National Park Service, Department of the Interior.

ACTION: Notice of Availability, Final Environmental Impact Statement for the General Management Plan, Saguaro National Park, Tucson, Arizona.

SUMMARY: The National Park Service announces the availability of the Final Environmental Impact Statement (FEIS) for the General Management Plan (GMP) for Saguaro National Park, Arizona. This action follows the National Environmental Policy Act of 1969, 42 U.S.C. 4332(c).

The document will provide a framework for management, visitor use, and facility development of the national park by the National Park Service for the next 15 to 25 years. The document describes three management alternatives including a no-action alternative and the preferred alternative of the National Park Service. In addition, the National Park Service analyzes anticipated environmental impacts of the alternatives. The National Park Service considered comments from the public, from traditionally associated American Indian tribes, and from government agencies on the draft plan when preparing the final.

Alternatives

Three management alternatives, including the no action alternative, were proposed in the Draft Environmental Impact Statement and have been carried forth into the Final Environmental Statement.

Alternative 1, the no action alternative, would be a continuation of current management trends and serves as a basis of comparison with the action alternatives.

Alternative 2, the preferred alternative, would emphasize protecting and preserving ecological processes and biological diversity by connecting dispersed wildlife and plant habitats with habitat corridors. The concept was developed to help protect biological and ecological diversity from being compromised by habitat fragmentation.

Alternative 3, the second action alternative, would emphasize providing a wider range of opportunities for visitor use that is compatible with protecting and preserving park resources and wilderness characteristics. The concept was developed because of public interest in expanding park programs and visitor-use opportunities for an increasingly diverse visitor population.

Date of Record of Decision: The National Park Service will execute a Record of Decision (ROD) no sooner than 30 days after publication by the Environmental Protection Agency of this notice of availability of the Final Environmental Impact Statement.

ADDRESSES: Copies of the Environmental Impact Statement/General Management Plan are available from Superintendent Sarah Craighead, Saguaro National Park, 3693 South Old Spanish Trail, Tucson, AZ 85730-5601; e-mail address sarah_craighead@nps.gov; or telephone number 520-733-5100. An electronic copy of the document is available on the Internet at http://parkplanning.nps.gov/sagu.

FOR FURTHER INFORMATION CONTACT: Contact Superintendent Sarah Craighead of Saguaro National Park at the address, telephone number, or electronic mail address shown above.

Dated: November 2, 2007.
Michael D. Snyder,
Regional Director, Intermountain Region, National Park Service.

[FR Doc. E8-3570 Filed 2-25-08; 8:45 am]

BILLING CODE 4312-52-P